BROADCASTING BOARD OF GOVERNORS

Performance Review Board Members

AGENCY: Broadcasting Board of Governors.

ACTION: Notice of membership.

SUMMARY: This Notice is issued to announce the membership of the Broadcasting Board of Governors (BBG) Performance Review Board.

DATES: September 14, 2000.

FOR FURTHER INFORMATION CONTACT: Ms. Linda C. Beard (Executive Secretary), Office of Personnel, Broadcasting Board of Governors, 330 Independence Avenue S.W., Washington, D.C. 20237, Telephone: (202) 619-1523.

SUPPLEMENTARY INFORMATION: In accordance with sections 4314(c) (1) through (5) of the Civil Service Reform Act of 1978 (Pub. L. 95454), the following is a list of members of the 1999 Performance Review Board for the Broadcasting Board of Governors.

Chairperson: Director for International Broadcasting Bureau, Brian Conniff (Acting). Panel 1—International Broadcasting Bureau SES Members

Chairperson: Chief of Staff for the Broadcasting Board of Governors Josiah H. Beeman. Panel 2: Broadcasting Board of Governors SES Members Career SES Members

Patricia Popovich, Deputy Chief, Information Officer For Management, Information Resources Management Bureau, Department of State.

Mike Blank, Executive Officer for the Immediate Office of the Secretary for Health and Human Services

Stephen S. Smith, Associate Director for Management, International Broadcasting Bureau, Broadcasting Board of Governors

Alternate Career SES Members

William E. Todd, Executive Director, Bureau of Finance and Management Policies, Department of State

Delores Parron, Deputy Assistant Secretary for Program Systems, ASPE, Health and Human Services

Dated: September 8, 2000.
John S. Welch,
Director, Office of Personnel.

[FR Doc. 00-23588 Filed 9-13-00; 8:45 am]

BILLING CODE 8610-01-P